OFFICE OF THE UNITED STATES TRADE REPRESENTATIVE

Generalized System of Preferences (GSP): Notice Regarding the 2001, 2002, and Ongoing Country Practice Reviews

AGENCY: Office of the United States Trade Representative.

ACTION: Notice.

SUMMARY: The Office of the United States Trade Representative (USTR) received petitions in 2001 and 2002 to review certain practices in certain beneficiary developing countries to determine whether such countries are in compliance with the GSP eligibility criteria. This notice announces the 2001 and 2002 country practice petitions that are accepted for review, and sets forth the schedule for comment and public hearing on these petitions and on other ongoing country practices reviews, for requesting participation in the hearing, and for submitting pre- and post-hearing briefs.

ADDRESSES: The e-mail address for submissions is FR0052@USTR.GOV. If unable to submit petitions by e-mail, contact the GSP Subcommittee of the Trade Policy Staff Committee (TPSC).

FOR FURTHER INFORMATION CONTACT: Contact the GSP Subcommittee, Office of the United States Trade Representative, 1724 F Street, NW., Room F-220, Washington, DC 20508. The telephone number is (202) 395-6971 and the facsimile number is (202) 395-9481.

SUPPLEMENTARY INFORMATION: The GSP provides for the duty-free importation of designated articles from designated beneficiary developing countries. The GSP is authorized by title V of the Trade Act of 1974 (“the 1974 Act”), as amended (19 U.S.C. 2461, et seq.), and is implemented in accordance with Executive Order 11888 of November 24, 1975, as modified by subsequent Executive Orders and Presidential Proclamations.

In a Federal Register notice dated April 13, 2001, USTR initiated the 2001 GSP Annual Review and announced a deadline of June 13, 2001, for the filing of petitions (66 FR 19278). In a Federal Register notice dated November 1, 2002, USTR initiated the 2002 GSP Annual Review and announced a deadline of December 2, 2002, for the filing of petitions (67 FR 66699). Several of the petitions received requested the review of certain practices in certain beneficiary developing countries to determine whether such countries are in compliance with the eligibility criteria set forth in sections 502(b) and 502(c) of the 1974 Act.

The GSP program expired on October 1, 2001, and was not reauthorized until August 6, 2002. Consequently, the interagency TPSC made no announcement of the acceptance of country practice petitions for the 2001 GSP Annual Review, and merged the 2001 petitions into the 2002 GSP Annual Review.

The TPSC has decided to accept certain petitions for review, as indicated in Annex I to this notice. Annex I sets out the case number and status of, and subject country and practice addressed in each petition, and updates the status of other, previously initiated, ongoing country practice reviews. If the TPSC decides to accept any other 2001 or 2002 country practice petition for review, it will make an announcement in the Federal Register at a later date.

Acceptance of a petition for review does not indicate any opinion with respect to disposition on the merits. Acceptance indicates only that the TPSC has found the petition eligible for review, and that such review will take place. The GSP regulations provide the schedule of dates for conducting a review unless otherwise specified in a Federal Register notice. The revised schedule for public comment and hearings is contained in Annex II.

USTR will announce in the Federal Register any modifications to the list of beneficiary developing countries or eligible articles for purposes of the GSP program resulting from this Review, as well as the date on which the modifications will take effect.

Opportunities for Public Comment and Requirements for Submissions

The GSP Subcommittee invites comments on any petition included in this Review. Submissions should comply with the GSP regulations (15 CFR Part 2007), including section 2007.0, except as modified below. All submissions should be identified by the relevant case number and country name as shown in Annex I.

In order to facilitate prompt processing of submissions, USTR strongly urges and prefers electronic e-mail submissions in response to this notice. Hand-delivered submissions will not be accepted. Submissions should be single copy transmissions in English, and the total submission should not exceed 50 single-spaced pages. E-mail submissions should use the subject line “GSP Country Practices Review,” followed by the case number and country name found in Annex I and, as appropriate, “Written Comments,” “Notice of Intent to Testify,” “Pre-hearing brief,” or “Post-hearing brief.” (For example, an e-mail subject line might read, “GSP Country Practices Review, 001-CP-02, Bangladesh, “Pre-hearing brief.”) Documents must be submitted as either WordPerfect (.WPD), MSWord (.DOC) , or text (.TXT) files. Documents should not be submitted as electronic image files or contain imbedded images (for example, “.JPG”, “PDF”, “.BMP”, or “.GIF”), as these type files are generally excessively large and may impede electronic transmission and redistribution. E-mail submissions containing such files may not be accepted. Supporting documentation submitted as spreadsheets are acceptable as Quattro Pro or Excel suitable for printing on 8½ x 11 inch paper. To the extent possible, any data attachments to the submission should be included in the same file as the submission itself, and not as separate files.

If the submission contains business confidential information, a non-confidential version of the submission must also be submitted that indicates where confidential information was redacted by inserting asterisks where material was deleted. In addition, the confidential submission must be clearly marked “BUSINESS CONFIDENTIAL” at the top and bottom of every page, and the non-confidential submission must be clearly marked either “PUBLIC VERSION” or “NON-CONFIDENTIAL” at the top and bottom of every page.

The file name of any document containing business confidential information attached to an e-mail transmission should begin with the characters “BC-”, and the file name of the public version should begin with the characters “P-”. The “P-” or “BC-” should be followed by the name of the party (government, company, union, association, etc.) making the submission. E-mail submissions should not include separate cover letters or messages in the message area of the e-mail; information that might appear in any cover letter should be included directly in the attached file containing the submission itself. The e-mail address for submissions is FR0052@USTR.GOV. Documents not submitted in accordance with these instructions might not be considered in this review.

Submissions will be open to public inspection shortly after the due date by appointment with the staff of the USTR public reading room, 1724 F Street, NW., Washington, DC, except for submitted information granted “business confidential” status pursuant to 15 CFR 2003.6 and other qualifying information submitted in confidence pursuant to 15 CFR 2007.7. Appointments may be made from 9:30 a.m. to noon and 1 p.m. to 4 p.m., Monday through Friday, by calling (202) 395-6186.

Notice of Public Hearings

The GSP Subcommittee will hold a hearing on October 7, 2003, beginning at 10 a.m. at the Office of the U.S. Trade Representative, 1724 F Street, NW., Washington, DC. The hearing will be open to the public and a transcript will be made available for public inspection or can be purchased from the reporting company. No electronic media coverage will be allowed.

Any interested party wishing to make an oral presentation at the hearing must submit the name, address, telephone number, facsimile number, and e-mail address (if available) of the witness(es) representing the party to the Chairman of the GSP Subcommittee by 5 p.m., September 26, 2003. Requests to present oral testimony in connection with the public hearing must be accompanied by a written brief or statement, in English, which must also be received by 5 p.m., September 26, 2003. Oral presentations should be approximately five-minutes long and summarize or supplement information contained in the brief or statement. Post-hearing briefs or statements must be submitted, in English, by 5 p.m., October 31, 2003. Any party not wishing to appear at the public hearing may submit a post-hearing written brief or statement, in English, by 5 p.m., October 31, 2003. Written briefs, statements, and oral testimony should conform with section 2007.5 of the GSP regulations.

Steven Falken,
Executive Director for GSP, Chairman, GSP Subcommittee.

BILLING CODE 3901-01-P

[FR Doc. 03-22426 Filed 9-2-03; 8:45 am]

BILLING CODE 3901-01-C